DEPARTMENT OF THE INTERIOR

Bureau of Land Management

[LLCONO134-09-L17110000-AL0000-241A]

Notice of Public Meetings, McInnis Canyons National Conservation Area Advisory Council Meetings

Authority: Pub. L. 106-353.

AGENCY: Bureau of Land Management, Interior.

ACTION: Announcement of meetings.

SUMMARY: The McInnis Canyons National Conservation Area (MCNCA) Advisory Council has scheduled its 2009 meetings. During these meetings, the Advisory Council will discuss matters relevant to management of McInnis Canyons National Conservation Area and may develop resolutions and/or recommendations to provide to the Bureau of Land Management on proposed projects, plans, and programs. These meetings are open to the public.

DATES: The meeting dates are:

1. January 22, 2009, 4 p.m., Grand Junction, Colorado.

2. July 16, 2009, 4 p.m., Grand Junction, Colorado.

ADDRESSES: The meetings will be held at the Mesa County Administration Building; 544 Rood Avenue, Grand Junction, CO.

FOR FURTHER INFORMATION CONTACT: Katie A. Stevens, (970) 244-3000.

SUPPLEMENTARY INFORMATION: The McInnis Canyons National Conservation Area was established on October 24, 2000 when the President signed the Colorado Canyons National Conservation Area and Black Ridge Wilderness Act of 2000 (Act). The Act also required that an Advisory Council be established to provide advice in the preparation and implementation of the Resource Management Plan. The NCA name was congressionally changed at the end of 2004 from Colorado Canyons National Conservation Area to McInnis Canyons National Conservation Area (MCNCA). The Resource Management Plan has been completed and is now being implemented. The agenda topics for the January meeting are:

(1) River Corridor Fee/Permit Management Resolution

(2) River Corridor Monitoring Plan

(3) Future Role of Advisory Council

(4) Managers Update

(5) Advisory Council field trip schedules

(6) Public Comment period

Similar agenda items will be addressed at the July meeting. All meetings will be open to the public and will include time for public comment. Interested persons may make oral statements at the meetings or submit written statements at any meeting. Per-person time limits for oral statements may be set to allow all interested persons to speak. Summary minutes of all Council meetings will be maintained at the Bureau of Land Management Office in Grand Junction, Colorado. They are available for public inspection and reproduction during regular business hours within thirty (30) days following the meeting. In addition, minutes and other information concerning the MCNCA Advisory Council can be obtained from the MCNCA Web site at: http://www.co.blm.gov/mcnca/index.htm, which will be updated following each Advisory Council meeting.

Dated: December 17, 2008.
Katie A. Stevens,
McInnis Canyons National Conservation Area Manager.

[FR Doc. E8-30766 Filed 12-24-08; 8:45 am]

BILLING CODE 4310-$$-P